DEPARTMENT OF THE INTERIOR

Fish and Wildlife Service

[FWS-R4-R-2013-N052; FXRS12650400000S3-123-FF04R02000]

Programmatic Environmental Assessment

AGENCY: Fish and Wildlife Service, Interior.

ACTION: Notice of intent.

SUMMARY: We, the Fish and Wildlife Service (Service), intend to prepare a programmatic environmental assessment (PEA) to evaluate the effects of the cultivation and use of genetically modified crops (GMCs) on lands that are part of the National Wildlife Refuge System in the Southeast Region (Refuge System lands). The Service's Southeast Region includes: Alabama, Arkansas, Tennessee, Florida, Georgia, Kentucky, Louisiana, Mississippi, North Carolina, South Carolina, and the Caribbean. We provide this notice to advise other Federal and State agencies, Native American tribes, non-governmental organizations, and the public of our intention as well as to obtain suggestions and information on the scope of issues to consider during the PEA planning process.

These actions are part of our effort to comply with the general provisions of the National Environmental Policy Act of 1969, as amended (NEPA); NEPA regulations; other appropriate Federal laws and regulations; and our policies and procedures for compliance with those laws and regulations. As a requirement of NEPA, we must identify resource issues, develop alternatives for the use of GMCs, and evaluate the effects of each of our chosen alternatives on the human environment.

DATES: To ensure consideration, we must receive your written comments by July 29, 2013.

ADDRESSES: A private consultant, Environmental Management and Planning Solutions, Inc. (EMPSi), will support the Internet Web site associated with the PEA and collect and organize comments.

You may send comments, questions, and requests for information by one of the following methods:

Email: fw4_gmcpea@fws.gov (this email address will transmit comments directly to the Service as well as to EMPSi's database);

Online portal: https://sites.google.com/site/fwsregion4gmcpeis/home (this Internet Web site, which will serve as the primary source of information to the public on the PEA, includes a portal for sending comments directly to the Service through EMPSi);

U.S. mail: Richard Warner, NEPA Coordinator, GMCPEA, 1875 Century Boulevard, Suite 420, Atlanta, GA 30345.

FOR FURTHER INFORMATION CONTACT: Mr. Richard Warner, NEPA Coordinator, at 404-679-7110 (telephone).

SUPPLEMENTARY INFORMATION:

Introduction

With this notice, we initiate the process for developing a PEA on the cultivation and use of genetically modified crops (GMCs) on our Refuge System lands. Our PEA will concentrate on the refuges in our Region that have used farming in the recent past and are likely to do so in the foreseeable future. The overall analysis in the PEA is intended, however, to apply to the entire Southeast Region.

The specific GMCs that will be analyzed in our PEA are varieties of corn and soybean that could be used to provide a sufficient amount of food for migratory waterfowl and satisfy the conservation goals of our refuges. The proposed use of any other GMCs will require a separate NEPA analysis on a case-by-case basis.

Background

As part of a settlement in Center for Food Safety v. Salazar, Case No. 1:11 cv 01457 (D.D.C. 2011), which challenged the cultivation and use of GMCs on our Refuge System lands, we agreed to cease using GMCs after the 2012 planting season and to refrain from doing so until we completed the appropriate level of NEPA analysis. Up through the end of the 2012 planting season, certain of our refuges cultivated and used GMCs as a management tool to provide food for millions of ducks, geese, doves, cranes, and other migrating waterfowl and shorebirds that inhabit our Refuge System lands.

At this juncture, we have determined that a PEA is appropriate to sufficiently analyze the environmental impacts of the cultivation and use of GMCs on our Refuge System lands. If we determine during preparation of the PEA that it is not appropriate for our NEPA analysis or if we are unable to make a finding of no significant impact at the conclusion of our analysis via the PEA, we will prepare an environmental impact statement (EIS) in accordance with NEPA.

Refuge farming in the Southeast Region primarily occurs through cooperative farming agreements that are entered into by a refuge manager and a farmer. Via the agreement, the farmer is authorized to grow crops on a designated number of acres on the refuge. In return, the farmer agrees to harvest an agreed upon percentage share of the crop and to leave the remaining crop in the fields as a food source for migrating birds.

The only GMCs that have been cultivated and used on our Refuge System lands are those that have been evaluated and deregulated by the Animal and Plant Health Inspection Service (APHIS) of the U.S. Department of Agriculture, as described in 7 CFR 340.6. Each of these GMCs was subjected to extensive scientific evaluation and regulatory processes before being granted non-regulated status, as described at http://www.aphis.usda.gov/regulations/index.shtml. Each proposal to grant non-regulated status to the GMCs underwent a NEPA analysis via an environmental assessment. These environmental assessments are posted on the APHIS Web site at http://www.aphis.usda.gov/biotechnology/not_reg.html. In addition, the U.S. Environmental Protection Agency evaluates all pesticides associated with GMCs for general environmental effects, while the Food and Drug Administration evaluates the potential impact of the GMC on food safety.

The authority for approving GMCs on refuge lands, nationwide, was delegated by the Director of the Fish and Wildlife Service to the Regional Chiefs of the National Wildlife Refuge System in April 2007. This policy may be found at http://www.fws.gov/policy/601fw3.html.

We will conduct six public scoping meetings to solicit input on the issues, concerns, and alternatives for the cultivation and use of GMCs on refuges in the Region. Meetings will be conducted at the following locations: Pocosin Lakes National Wildlife Refuge (North Carolina); Wheeler National Wildlife Refuge (Alabama); Tennessee National Wildlife Refuge (Tennessee); Vicksburg, Mississippi; and Alexandria, Louisiana. The addresses, dates, and times of meetings will be announced through local and regional media.

Public Availability of Comments

Before including your address, phone number, email address, or other personal identifying information in your comment, suggestion or correspondence, you should be aware that your entire comment—including your personal identifying information—may be made publicly available at any time. While you may request in your comment that we withhold your personal identifying information from public review, we cannot guarantee that we will be able to do so.

Authority

This notice is published under the authority of the National Environmental Policy Act of 1969, as amended (42 U.S.C. 4321 et seq.).

Dated: March 27, 2013.
Cynthia K. Dohner,
Regional Director.

[FR Doc. 2013-09898 Filed 4-29-13; 8:45 am]

BILLING CODE 4310-55-P